DEPARTMENT OF ENERGY

Federal Energy Regulatory Commission

Notice of Surrender of Exemption and Soliciting Comments, Motions To Intervene, and Protests

July 28, 2000.

Take notice that the following hydroelectric application has been filed with the Commission and is available for public inspection:

a. Application Type: Surrender of Exemption.

b. Project No.: 9902-005.

c. Date Filed: June 19, 2000.

d. Applicant: Carlsbad Municipal Water District.

e. Name of Project: Fred Maerkle Hydroelectric Project.

f. Location: On the Applicant's domestic water supply conduit which delivers water from the San Diego County Water Authority connection No. 3 on the Tri-Agencies Pipeline to the Fred Maerkle Reservoir, near Carlsbad, in San Diego County, California.

g. Filed pursuant to: 18 CFR 4.102.

h. Applicant Contact: Mr. William Plummer, District Engineer/Deputy City Engineer, 1635 Faraday Avenue, Carlsbad, CA 92008-7314, (760) 602-2720.

i. FERC Contact: Any questions related to this notice should be addressed to Rafael Montag at (202) 208-0985, or e-mail address: rafael.montag@ferc.fed.us.

j. Deadline for filing comments and/or motions: August 30, 2000.

All documents (original and eight copies) should be filed with David P. Boergers, Secretary, Federal Energy Regulatory Commission, 888 First Street, N.E., Washington, DC 20426.

Please include the project number (9902-005) on any comments or motions filed.

k. Description of Project: The project consisted of a powerhouse containing a single turbine-generator unit with a rated capacity of 60 kilowatts under a head of 325 feet. A 200-volt, 300-foot-long transmission line connected the project to a radio transmitter.

Carlsbad Municipal Water District requests to surrender the exemption for this constructed project because the project facilities have been removed and there are no plans to install new equipment, or in any way use the site for energy generation in conjunction with the existing exemption.

l. Location of the application: A copy of the application is available for inspection and reproduction at the Commission's Public Reference Room, located at 888 First Street, NE, Room 2A, Washington, D.C. 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 211, 214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-19603 Filed 8-2-00; 8:45 am]

BILLING CODE 6717-01-M